NUCLEAR REGULATORY COMMISSION

10 CFR Part 72

RIN 3150-AH27

List of Approved Spent Fuel Storage Casks: Standardized NUHOMS®-24P, -52B, -61BT, and -24PHB Revision (Amendment 6): Correction and Confirmation of Effective Date

AGENCY: Nuclear Regulatory Commission.

ACTION: Direct final rule: correction and confirmation of effective date.

SUMMARY: The Nuclear Regulatory Commission (NRC) is correcting the direct final rule that was published in the Federal Register on October 7, 2003 (68 FR 57785). This direct final rule amended the NRC's regulations to revise the Standardized NUHOMS® cask system listing to include Amendment No. 6 to Certificate of Compliance (CoC) No. 1004. The correction removes the specified effective date for Amendment No. 5 to this cask system. The NRC is also confirming the effective date of December 22, 2003, for this direct final rule.

DATES: The effective date of December 22, 2003, is confirmed for this direct final rule.

ADDRESSES: Documents related to this rulemaking, including comments received, may be examined at the NRC Public Document Room, located at One White Flint North, 11555 Rockville Pike, Rockville, MD 20852. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Margaret Stambaugh, Office of Nuclear Material Safety and Safeguards, U.S. Nuclear Regulatory Commission, Washington, DC 20555, telephone (301) 415-5449, e-mail mxs8@nrc.gov.

SUPPLEMENTARY INFORMATION: On October 7, 2003 (68 FR 57785), the NRC published a direct final rule amending its regulations in 10 CFR part 72 to revise the Standardized NUHOMS® cask system listing within the “List of Approved Spent Fuel Storage Casks” to include Amendment No. 6 to CoC No. 1004. This amendment will permit a part 72 licensee to store high burnup Babcock & Wilcox 15x15 spent fuel assemblies with an average burnup of up to 55,000 megawatt-days/metric ton of uranium, enrichment equal to 4.5 weight percent uranium-235, a maximum decay heat load of 1.3 kilowatt (kW) per assembly, and a maximum heat load of 24 kW per cask, under a general license. In the direct final rule, NRC stated that if no significant adverse comments were received, the direct final rule would become final on December 22, 2003. The NRC did not receive any comments that warranted withdrawal of the direct final rule. Therefore, this rule will become effective as scheduled.

The NRC is also correcting this direct final rule to remove the specified effective date for Amendment No. 5 in the Standardized NUHOMS® cask system listing. On August 19, 2003 (68 FR 49683), the NRC published a direct final rule that would have added Amendment No. 5 to the Standardized NUHOMS® cask system listing with an effective date of November 3, 2003. The October 7, 2003, direct final rule for Amendment No. 6 included the anticipated effective date for Amendment No. 5. On October 30, 2003 (68 FR 61734), the NRC withdrew the August 19, 2003, direct final rule because it received significant adverse comment in response to an identical proposed rule which was published concurrently with that direct final rule. Therefore, the amendment to 10 CFR 72.214 setting out the text for Certificate of Compliance 1004 presented in the October 7, 2003, direct final rule for Amendment No. 6 is corrected to remove the effective date for Amendment No. 5 and the reference to the cask model number that would have been added by Amendment No. 5.

PART 72—[CORRECTED]

1. In § 72.214, Certificate of Compliance 1004 is corrected to read as follows:

§ 72.214 List of approved spent fuel storage casks.

* * * * *

Certificate Number: 1004.

Initial Certificate Effective Date: January 23, 1995.

Amendment Number 1 Effective Date: April 27, 2000.

Amendment Number 2 Effective Date: September 5, 2000.

Amendment Number 3 Effective Date: September 12, 2001.

Amendment Number 4 Effective Date: February 12, 2002.

Amendment Number 5 Effective Date: [Reserved].

Amendment Number 6 Effective Date: December 22, 2003.

SAR Submitted by: Transnuclear, Inc.

SAR Title: Final Safety Analysis Report for the Standardized NUHOMS® Horizontal Modular Storage System for Irradiated Nuclear Fuel.

Docket Number: 72-1004.

Certificate Expiration Date: January 23, 2015.

Model Number: Standardized NUHOMS® -24P, NUHOMS® -52B, NUHOMS® -61BT, and NUHOMS® -24PHB.

* * * * *

Dated in Rockville, Maryland, this 11th day of December, 2003.
For the Nuclear Regulatory Commission.
Michael T. Lesar,
Chief, Rules and Directives Branch, Division of Administrative Services, Office of Administration.

[FR Doc. 03-31090 Filed 12-16-03; 8:45 am]

BILLING CODE 7590-01-P